DEPARTMENT OF ENERGY

Federal Energy Regulatory Commission

[Docket No. CP00-100-000]

National Fuel Gas Supply Corporation; Notice of Application for Abandonment Authorization

March 9, 2000.

Take notice that on February 25, 2000, National Fuel Gas Supply Corporation (National Fuel) 10 Lafayette Square, Buffalo, New York 14203, filed in Docket No. CP00-100-000 an application pursuant to Section 7(b) of the National Gas Act and Part 157 of the Commission's Regulations, for authority to abandon an inactive storage field and appurtenant facilities, all as more fully set forth in the application on file with the Commission and open to public inspection. This filing may be viewed on the web at http://www.ferc.fed.us/online/rims.htm. Call (202) 208-2222 for assistance.

In its filing, National Fuel proposes to abandon by sale to its affiliate, Seneca Resources Corporation (Seneca), its Duhring Storage Field (Duhring), located in Forest County, Pennsylvania. National Fuel indicates that Duhring consists of 12 wells and 30,016 feet of various size well pipelines. It is indicated that following the conveyance of the storage field, Seneca plans to produce the native gas. National Fuel further states that the abandonment of Duhring will have no effect on existing services.

National Fuel's application states it is also seeking any required authorization to abandon by sale to Seneca the adjacent gathering facilities which include approximately 10 miles of 2-inch to 4-inch diameter gathering pipelines and five receipt points where National Fuel receives gas from three independent producers, including Seneca.

National Fuel states that the storage facilities and the gathering facilities will be used for production and gathering purposes following conveyance and requests that the Commission determine that such facilities will not be subject to the Commission's jurisdiction after the sale.

Any questions regarding this application should be directed to David W. Reitz, Assistant General Counsel for National Fuel, 10 Lafayette Square, Buffalo, New York 14203 at (716) 857-7949.

Any person desiring to be heard or to make a protest with reference to said application should on or before March 30, 2000, file with the Federal Energy Regulatory Commission, 888 First Street, N.E., Washington, DC 20426, a motion to intervene or protest in accordance with the requirements of the Commission's Rules of Practice and Procedure (18 CFR 385.214 or 385.211) and the Regulations under the Natural Gas Act (18 CFR 157.10). All protests filed with the Commission will be considered by it in determining the appropriate action to be taken but will not serve to make the protestant a party to the proceeding. Any person wishing to become a party to a proceeding or to participate, as a party in any hearing therein must file a motion to intervene in accordance with the Commission's Rules.

Take further notice that, pursuant to the authority contained in and subject to the jurisdiction conferred upon the Commission by Section 7 and 15 of the Natural Gas Act and the Commission's Rules of Practice and Procedure, a hearing will be held without further notice before the Commission or its designee on this application if no motion to intervene is filed within the time required herein, if the Commission on its own review of the matter finds that permission and approval for the proposed abandonment are required by the public convenience and necessity. If a motion for leave to intervene is timely filed, or if the Commission on its own motion believes that a formal hearing is required further notice of such hearing will be duly given.

Under the procedures herein provide for, unless otherwise advised, it will be unnecessary for National Fuel to appear or to be represented at the hearing.

David P. Boergers,
Secretary.

[FR Doc. 00-6309 Filed 3-14-00; 8:45 am]

BILLING CODE 6717-01-M